DEPARTMENT OF THE INTERIOR

Bureau of Indian Affairs

[222D0102DR/DS5A300000/DR.5A311.IA000118]

Resumption of Preparation of an Environmental Impact Statement for the Proposed Coquille Indian Tribe Fee-to-Trust and Gaming Facility Project, Medford, Oregon

AGENCY: Bureau of Indian Affairs, Interior.

ACTION: Notice.

SUMMARY: The Assistant Secretary—Indian Affairs has withdrawn the Department of the Interior's previous denial of the Coquille Indian Tribe's (Tribe) application to transfer land into trust in Medford, Oregon. Pursuant to this notice, the Bureau of Indian Affairs (BIA) will resume preparation of an environmental impact statement (EIS) for the proposed project.

DATES: On November 19, 2021, the Assistant Secretary—Indian Affairs remanded the Tribe's application to the BIA to complete the environmental review process.

FOR FURTHER INFORMATION CONTACT: Mr. Bryan Mercier, Northwest Regional Director, Bureau of Indian Affairs, Northwest Region, 911 Northeast 11th Avenue, Portland, Oregon 97232-4165.

SUPPLEMENTARY INFORMATION: On January 15, 2015, the BIA published in the Federal Register a Notice of Intent to prepare an EIS for the Tribe's application for fee-to-trust acquisition of 2.42 acres and a gaming facility project in Medford, Oregon. The BIA initiated scoping on February 2, 2015. On May 27, 2020, the Principal Deputy Assistant Secretary—Indian Affairs declined to accept conveyance of the Medford Site into trust (2020 Denial). On November 19, 2021, the Assistant Secretary—Indian Affairs withdrew the 2020 Denial and remanded the Tribe's application to the BIA to complete the environmental review process under the National Environmental Policy Act (NEPA). Pursuant to this Notice, the BIA will resume preparation of the EIS. The EIS is being prepared for the Tribe's application requesting that the United States acquire in trust approximately 2.42 acres of land within the City of Medford, Jackson County, Oregon. The Tribe is proposing to retrofit and remodel an existing bowling alley into a 30,300-square-foot gaming facility.

Authority: This notice is published in accordance with sections 1501.7 and 1506.6 of the Council on Environmental Quality Regulations (40 CFR parts 1500 through 1508) implementing the procedural requirements of the National Environmental Policy Act of 1969, as amended (42 U.S.C. 4321-4345 et seq.), and the Department of the Interior National Environmental Policy Act Regulations (43 CFR part 46), and is in the exercise of authority delegated to the Assistant Secretary—Indian Affairs by 209 DM 8.

Bryan Newland,
Assistant Secretary—Indian Affairs.

[FR Doc. 2021-27953 Filed 12-23-21; 8:45 am]

BILLING CODE 4337-15-P